COMMITTEE FOR THE IMPLEMENTATION OF TEXTILE AGREEMENTS

Removal of Visa Requirements for Certain Cotton and Man-Made Fiber Textile Products Produced or Manufactured in the Republic of Turkey

December 5, 2002.

AGENCY: Committee for the Implementation of Textile Agreements (CITA).

ACTION: Issuing a directive to the Commissioner of Customs amending visa requirements.

EFFECTIVE DATE: January 1, 2003.

FOR FURTHER INFORMATION CONTACT: Roy Unger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

Effective on January 1, 2003, an export visa will not be required for products in merged Categories 352/652, produced or manufactured in Turkey and exported from Turkey on and after January 1, 2003. The visa requirement is being removed because the quota on this category expires on December 31, 2002, and the existing visa arrangement between the Governments of the United States and Turkey only requires export visas for quota categories.

A description of the textile and apparel categories in terms of HTS numbers is available in the CORRELATION: Textile and Apparel Categories with the Harmonized Tariff Schedule of the United States (see Federal Register notice 66 FR 65178, published on December 18, 2001). Also see 66 FR 63037, published on December 4, 2001 and 52 FR 6859, published on March 5, 1987.

D. Michael Hutchinson,
Acting Chairman, Committee for the Implementation of Textile Agreements.

Committee for the Implementation of Textile Agreements

December 5, 2002.

Commissioner of Customs,

Department of the Treasury, Washington, DC 20229.

Dear Commissioner: This directive does not cancel, the directive issued to you on March 2, 1987, as amended, by the Chairman, Committee for the Implementation of Textile Agreements. That directive concerns export visa requirements for certain cotton and man-made fiber textile products, produced or manufactured in Turkey for which the Government of Turkey has not issued an appropriate export visa.

Effective on January 1, 2003, you are directed to no longer require a visa for products in merged Categories 352/652 exported on and after January 1, 2003 because the quota on this category expires on December 31, 2002, and the existing visa arrangement between the Governments of the United States and Turkey only requires export visas for quota categories.

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc. 02-31207 Filed 12-10-02; 8:45 am]

BILLING CODE 3510-DR-S